OFFICE OF SPECIAL COUNSEL

Agency Information Collection Activities, Request for Comment

AGENCY: Office of Special Counsel.

ACTION: Second Notice.

SUMMARY: In accordance with the Paperwork Reduction Act of 1995 (44 U.S.C. Chapter 35), and implementing regulations at 5 CFR part 1320, the U.S. Office of Special Counsel (OSC), plans to request approval from the Office of Management and Budget (OMB) for use of three previously approved information collections consisting of three complaint forms. These collections are listed below. The current OMB approval for Forms OSC-11, OSC-12, OSC-13 expired on 2/28/14. We are submitting all three forms for renewal, based on the actual date of expiration. We are currently collecting requirements for future modifications to these forms; however, currently there are no changes being submitted with this request for renewal of the use of these forms. Current and former Federal employees, employee representatives, other Federal agencies, state and local government employees, and the general public are invited for the second time to comment on this information collection. Comments are invited on: (a) Whether the proposed collection of information is necessary for the proper performance of OSC functions, including whether the information will have practical utility; (b) the accuracy of OSC's estimate of the burden of the proposed collections of information; (c) ways to enhance the quality, utility, and clarity of the information to be collected; and (d) ways to minimize the burden of the collection of information on respondents, including through the use of automated collection techniques or other forms of information technology.

DATES: Comments should be received by July 23, 2014.

FOR FURTHER INFORMATION CONTACT: Karl Kammann, Director of Finance, at the address shown above; by facsimile at (202) 254-3711.

SUPPLEMENTARY INFORMATION: OSC is an independent agency responsible for, among other things, (1) investigation of allegations of prohibited personnel practices defined by law at 5 U.S.C. 2302(b), protection of whistleblowers, and certain other illegal employment practices under titles 5 and 38 of the U.S. Code, affecting current or former Federal employees or applicants for employment, and covered state and local government employees; and (2) the interpretation and enforcement of Hatch Act provisions on political activity in chapters 15 and 73 of title 5 of the U.S. Code.

Title of Collections: (1) Form OSC-11, (Complaint of Possible Prohibited Personnel Practice of Other Prohibited Activity; (2) Form OSC-12 (Information about filing a Whistleblower Disclosure with the Office of Special Counsel); (3) Form OSC-13 (Complaint of Possible Prohibited Political Activity (Violation of the Hatch Act)); OMB Control Number 3255-0002, Expiration 02/28/14.

Copies of the OSC Forms 11, 12, and 13 can be found at: http://www.osc.gov/RR_OSCFORMS.htm.

Type of Information Collection Request: Approval of previously approved collection of information that expires on February 28, 2014, with no revisions.

Affected Public: Current and former Federal employees, applicants for Federal employment, state and local government employees, and their representatives, and the general public.

Respondent's Obligation: Voluntary.

Estimated Annual Number of OSC Form Respondents: 3,950.

Frequency of Use of OSC Forms: Daily.

Estimated Average Amount of Time for a Person To Respond Using OSC Forms: 64 minutes.

Estimated Annual Burden for the OSC Forms: 2,899 hours.

Abstract: These forms are used by current and former Federal employees and applicants for Federal employment to submit allegations of possible prohibited personnel practices or other prohibited activity for investigation and possible prosecution by OSC.

Dated: June 10, 2014.
Carolyn N. Lerner,
Special Counsel.

[FR Doc. 2014-14579 Filed 6-20-14; 8:45 am]

BILLING CODE 7405-01-P